DEPARTMENT OF ENERGY

Federal Energy Regulatory Commission

Notice of Effectiveness of Exempt Wholesale Generator Status

| Docket Nos.
Swift Air Solar, LLC | EG24-173-000
West Warwick Energy Storage 1 LLC | EG24-174-000
West Warwick Energy Storage 2 LLC | EG24-175-000
West Warwick Energy Storage 3 LLC | EG24-176-000
Hornet Solar LLC | EG24-177-000
Gransolar Texas One, LLC | EG24-178-000
BT Jungmann, LLC | EG24-179-000
Desert Quartzite, LLC | EG24-180-000
Aspen Road Solar 1, LLC | EG24-181-000
Egypt Road Solar, LLC | EG24-182-000
Jones Farm Lane Solar, LLC | EG24-183-000
Imperial Power Plant, LLC | EG24-184-000
Pecos Power Plant, LLC | EG24-185-000
Spanish Peaks Solar LLC | EG24-186-000
Bayou Galion Solar Project, LLC | EG24-187-000
Timbermill Wind, LLC | EG24-188-000
Prosperity Wind, LLC | EG24-189-000
Keydet Solar Center, LLC | EG24-190-000
Empower TXMX, LLC | EG24-191-000
Capon Bridge Solar, LLC | EG24-192-000
McFarland Storage C, LLC | EG24-193-000
Ross County Solar, LLC | EG24-194-000
Fayette Solar, LLC | EG24-195-000
Fillmore County Solar Project, LLC | EG24-196-000
Louise Solar Project, LLC | EG24-197-000

Take notice that during the month of July 2024, the status of the above-captioned entities as Exempt Wholesale Generators became effective by operation of the Commission's regulations. 18 CFR 366.7(a) (2023).

Dated: August 6, 2024.
Debbie-Anne A. Reese,
Acting Secretary.

[FR Doc. 2024-17962 Filed 8-12-24; 8:45 am]

BILLING CODE 6717-01-P